SURFACE TRANSPORTATION BOARD

[Docket No. FD 36054]

Kokomo Rail Co., Inc.—Acquisition and Operation Exemption—Rail Line of Indian Creek Railroad Company

Kokomo Rail Co., Inc. (KRC), a Class III rail carrier, has filed a verified notice of exemption under 49 CFR 1150.41 to acquire and operate approximately 4.55 miles of rail line (the Line), from Indian Creek Railroad Company (ICRK). According to KRC's notice, the Line extends between a point of connection to Norfolk Southern Railway Company at or near Florida Station and the end of track northwest of Anderson, Ind., a distance of 4.55 miles in Madison County, Ind. The Line does not have milepost designations. KRC states that the Line extends between Madison County Road 200 West and a point near the intersection of Madison County Roads 500 West and 700 North.

KRC certifies that its projected annual revenues as a result of this transaction will not result in the creation of a Class II or Class I rail carrier, that its projected annual revenue will not exceed $5 million, and that the transaction does not involve any interchange commitments.

The earliest this transaction may be consummated is September 1, 2016, the effective date of the exemption (30 days after the exemption was filed).

If the notice contains false or misleading information, the exemption is void ab initio. Petitions to revoke the exemption under 49 U.S.C. 10502(d) may be filed at any time. The filing of a petition to revoke will not automatically stay the transaction. Petitions for stay must be filed no later than August 25, 2016 (at least 7 days before the exemption becomes effective).

An original and 10 copies of all pleadings, referring to Docket No. FD 36054, must be filed with the Surface Transportation Board, 395 E Street SW., Washington, DC 20423-0001. In addition, a copy of each pleading must be served on Thomas F. McFarland, P.C., 208 South LaSalle Street, Suite 1666, Chicago, IL 60604.

Board decisions and notices are available on our Web site at WWW.STB.DOT.GOV.

Decided: August 15, 2016.
By the Board, Rachel D. Campbell, Director, Office of Proceedings.
Kenyatta Clay,
Clearance Clerk.

[FR Doc. 2016-19717 Filed 8-17-16; 8:45 am]

BILLING CODE 4915-01-P